DEPARTMENT OF TRANSPORTATION

Federal Aviation Administration

Notice of Public Availability of an Environmental Assessment (EA) and Finding of No Significant Impact/Record of Decision (FONSI/ROD) for the Evaluation of Environmental Impacts Associated With Proposed Rehabilitation of Runway 3R-21L at Detroit Metropolitan Wayne County Airport (DTW) located in Romulus, Detroit

AGENCY: Federal Aviation Administration (FAA), Department of Transportation (DOT).

ACTION: Notice of Availability of an EA and FONSI/ROD for the evaluation of environmental impacts associated with the proposed rehabilitation of Runway 3R-21L at Detroit Metropolitan Wayne County Airport.

SUMMARY: The FAA is making available the EA and FONSI/ROD for the evaluation of environmental impacts associated with proposed rehabilitation of Runway 3R-21L at Detroit Metropolitan Wayne County Airport. The EA was prepared in accordance with the National Environmental Policy Act (NEPA) of 1969, as amended, FAA Orders 1050.1E, “Environmental Impacts: Policies and Procedures” and FAA Order 5050.4B, “NEPA Implementing Instructions for Airport Actions”.

Point of Contact: Mr. Ernest Gubry, Environmental Protection Specialist, DET-605, Federal Aviation Administration, Detroit Airport District Office, 11677 South Wayne Road, Suite 107, Romulus, MI 48174. Telephone number: 734-229-2905.

SUPPLEMENTARY INFORMATION: The FAA is making an EA and FONSI/ROD for the evaluation of environmental impacts associated with the proposed rehabilitation of Runway 3R-21L for the Detroit Metropolitan Wayne County Airport (the Airport), located in Detroit, Michigan. The proposed project consists of the demolition, removal and full-depth replacement of the pavement section for the northern-most 7,600 feet of the 150 feet wide Runway 3R-21L and associated work. The Project is planned to take 175 days and is proposed to start in the spring of 2007. During the 175 day construction period aircraft operations typically assigned to Runway 3R-21L would be reassigned to one of the other parallel runways or the crosswind runways. This would result in Runways 3L-21R, 4R-22L, 4L-22R and 9R-27L being used more often than would typically occur without the Proposed Action and as a result, a temporary increase in the number of aircraft and noise over residences immediately north and east of the airport is anticipated. This temporary operation would not result in the creation of any new air traffic procedures but would result in additional numbers of operations on existing flight tracks during the construction period. Runway 3R-21L will be reconstructed to its original length, width and strength and will not result in increases in operations or changes in types of aircraft using the runway. The flight tracks and percentage of use will also return to their prior usage. These documents will be available for public review during normal business hours at the Detroit Airport District Office, 11677 South Wayne road, Suite 107, Romulus, MI 48174. Please call the point of contact prior to visiting this office.

Issued in Detroit, Michigan, March 24, 2007.
Ernest P. Gubry,
Acting Manager, Detroit Airport District Office FAA, Great Lakes Region.

[FR Doc. 07-1473 Filed 3-23-07; 8:45 am]

BILLING CODE 4910-13-M